DEPARTMENT OF TRANSPORTATION

National Highway Traffic Safety Administration

[Docket No. NHTSA-2016-0066; Notice 2]

Bridgestone Americas Tire Operations, LLC, Grant of Petition for Decision of Inconsequential Noncompliance

AGENCY: National Highway Traffic Safety Administration (NHTSA), Department of Transportation (DOT).

ACTION: Grant of petition.

SUMMARY: Bridgestone Americas Tire Operations, LLC (BATO), has determined that certain Bridgestone VSB heavy-duty radial truck tires do not fully comply with Federal Motor Vehicle Safety Standard (FMVSS) No. 119, New Pneumatic Tires for Motor Vehicles with a GVWR of more than 4,536 Kilograms (10,000 pounds) and Motorcycles. BATO filed a noncompliance report dated April 7, 2016. BATO then petitioned NHTSA on May 5, 2016, for a decision that the subject noncompliance is inconsequential as it relates to motor vehicle safety.

ADDRESSES: For further information on this decision contact Abraham Diaz, Office of Vehicle Safety Compliance, the National Highway Traffic Safety Administration (NHTSA), telephone (202) 366-5310, facsimile (202) 366-5930.

SUPPLEMENTARY INFORMATION:

I. Overview: Bridgestone Americas Tire Operations, LLC (BATO), has determined that certain Bridgestone VSB heavy-duty radial truck tires do not fully comply with paragraph S6.5(d) of Federal Motor Vehicle Safety Standard (FMVSS) No. 119, New Pneumatic Tires for Motor Vehicles with a GVWR of more than 4,536 Kilograms (10,000 pounds) and Motorcycles. BATO filed a report dated April 7, 2016, pursuant to 49 CFR part 573, Defect and Noncompliance Responsibility and Reports. BATO then petitioned NHTSA on May 5, 2016, pursuant to 49 U.S.C. 30118(d) and 30120(h) and their implementing regulations at 49 CFR part 556, for an exemption from the notification and remedy requirements of 49 U.S.C. Chapter 301 on the basis that this noncompliance is inconsequential as it relates to motor vehicle safety.

Notice of receipt of the petition was published, with a 30-day public comment period, on June 29, 2016, in the Federal Register (81 FR 42394). No comments were received. To view the petition and all supporting documents log onto the Federal Docket Management System (FDMS) Web site at: http://www.regulations.gov/. Then follow the online search instructions to locate docket number “NHTSA-2016-0066.”

II. Tires Involved: Affected are approximately 1,167 Bridgestone VSB heavy-duty radial truck tires used mainly in a military application. Other instances include a few off-road logging applications and a single on-road snow plow vehicle for single load application. The affected tires were manufactured between April 5, 2015, and March 30, 2016.

III. Noncompliance: BATO stated that the subject tires are rated for both a single and a dual load and are marked with the proper maximum load rating and inflation pressure for a single load. However, they are not marked with the dual load information. As a result, the tires do not fully comply with paragraph S6.5(d) of FMVSS No. 119.

IV. Rule Text: Paragraph S6.5(d) of FMVSS No. 119 provides, in pertinent part:

S6.5 Tire markings. Except as specified in this paragraph, each tire shall be marked on each sidewall with the information specified in paragraphs (a) through (j) of thissection . . .

(d) The maximum load rating and corresponding inflation pressure of the tire, shown as follows:

(Mark on tires rated for single and dual load): Max load single _ kg (_ lb) at _ Pa (_ psi) cold. Max load dual _ kg (_ lb) at _ kPa (_ psi) cold.

(Mark on tires rated only for single load): Max load _ kg (_ lb) at _ kPa (_ psi) cold. . .

V. Summary of BATO's Petition: BATO described the subject noncompliance and stated its belief that the noncompliance is inconsequential as it relates to motor vehicle safety. BATO states that the subject tires meet or exceed all of the performance requirements of FMVSS No. 119. BATO also contends that the missing dual load information has no effect on the performance of the subject tires and that the subject tires were tested and passed at the single tire load, which is higher and more punishing than that of the dual tire load.

BATO asserted that NHTSA has previously granted inconsequential noncompliance petitions similar to the subject noncompliance.

BATO submitted a supplemental letter to the agency dated September 23, 2016, which provided information about the use of the affected tires. BATO accounted for 100% of the affected tires as follows:

1. BATO stated that approximately 90% of all affected tires were sold to a customer using the tires on an M911 Heavy Equipment Transporter (HET) used by the U.S. Army. The M911 HET uses the subject tires in dual-load configuration. The dual-load configuration is used on the third and fourth axles. BATO provided an excerpt of the U.S. Army Technical Manual for vehicle M911. In the manual, the vehicle manufacturer specifies the maximum load for the third and fourth tandem axles as 65,000 lbs. Because there are 8 tires total on these two axles, this corresponds to 8,125 lbs per tire. BATO further states that from the Tire and Rim Association (TRA) Year Book, the subject tires are rated for 9,410 lbs in dual-load applications when inflated to 85 psi. Thus, in a maximum-load condition, the subject tires each have 1,285 lbs of reserve load (nearly 14%) when used in the only known on-road dual-application positions on Axles 3 and 4 as stated by BATO.

2. BATO stated that two tires were sent to a customer using the affected tires in a single-load application on a heavy-duty snowplow and that the proper maximum loading information for single-load is marked on the sidewall of the tire.

3. BATO stated that about 10% of the subject tires were sold to customers that use these tires on private or unpaved roads. These customers are using the tires on logging trailers at forestry sites and on equipment trailers at oil exploration sites. In both cases, these off-road trailers are operated almost exclusively on unpaved, private roads, and are not considered to be “motor vehicles” as defined by the Motor Vehicle Safety Act. See 49 U.S.C. 30102(a)(6) which defines a “motor vehicle” as one that is “manufactured primarily for use on public streets, roads and highways”.

BATO added that the subject tires are performing extremely well in the field. The subject tires have been in the market for up to 17 months (manufactured dates range from April 5, 2015, to March 30, 2016), and there is no indication of problems related to potential overload. BATO included that there have been no claims, lawsuits, adjustments, accidents, collisions or losses of control related to the subject tires.

4. BATO states that NHTSA has previously granted petitions in which the “dual” maximum load information was marked incorrectly on the subject tires. BATO specifically cited Michelin 69 FR 62512; October 26, 2004, and Michelin 71 FR 77092; December 22, 2006.

BATO concluded by expressing the belief that the subject noncompliance is inconsequential as it relates to motor vehicle safety, and that its petition to be exempted from providing notification of the noncompliance, as required by 49 U.S.C. 30118, and a remedy for the noncompliance, as required by 49 U.S.C. 30120, should be granted.

NHTSA's Decision

NHTSA's Analysis: NHTSA agrees that the noncompliance is inconsequential to motor vehicle safety. However, NHTSA has some reservations about BATO's petition. NHTSA's analysis of BATO's points are described below:

BATO asserted that NHTSA has previously granted inconsequential noncompliance petitions that are similar to the subject noncompliance. NHTSA responds that those petitions are not similar because they are cases involving specific conditions in which both the “Single” and “Dual” loads were marked on the sidewall of the tire and the “Dual” loads were within the safety factor range associated for similar tires of its size. (See Michelin 71 FR 77092; Dec. 22, 2006, and Michelin 69 FR 62512; October 26, 2004.)

BATO states that the subject tires meet or exceed all of the performance requirements of FMVSS No. 119 which were tested and passed at the single tire load, which is higher and more punishing than that of the dual tire load. NHTSA does not find this to be a compelling argument. NHTSA does not agree that complying to the standard when tested in the manufacturer's single load specification negates the necessity for the tire to be properly marked with the correct dual load rating which, intentionally, is lower than the single load rating. The dual load rating is necessary to ensure a factor of safety during on road use conditions involving a dual-load configuration.

What NHTSA finds relevant to a decision of inconsequential noncompliance is that the use of the subject tires is restricted to three specific cases: vehicles using the tires only in a single-load configuration; Vehicles the agency has determined to be off-road vehicles; and military vehicles. The analysis of each of these scenarios follows:

First, BATO indicated that two of the subject tires were sold for use on a heavy-duty snowplow. The heavy-duty snowplow that uses these tires uses them exclusively in a single load application. The subject tires are marked properly on the sidewall for single load application and thus an end-user would be able to load the vehicle properly. Therefore, NHTSA agrees that in this specific case, the noncompliance is inconsequential to safety.

Second, approximately 10% of the subject tires are used exclusively for off-road forestry logging and oil site exploration. In a letter dated July 25, 2011, NHTSA's Office of Chief Counsel communicated to the Michigan Association of Timbermen the following: “NHTSA has issued several interpretations of this language. We have stated that vehicles equipped with tracks, agricultural equipment, and other vehicles incapable of highway travel are not motor vehicles. We have also determined that certain vehicles designed and sold solely for off-road use (e.g., airport runway vehicles and underground mining vehicles) are not motor vehicles, even if they may be operationally capable of highway travel.” In light of this, NHTSA agrees that in the case of the subject tires, the noncompliance is inconsequential as it relates to motor vehicle safety because the tires are not used on public roads.

Finally, approximately 90% of the subject tires were sold to the U.S. Army for use on M911 HET military vehicles. In this application, the M911 HET technical manual specifies the tire inflation pressure to be 85 psi and limits the tire loading to 8,125 lbs per tire due to the vehicle's axle design. BATO claims that the subject tires were designed and certified to meet a dual-load limit of 9,410 lbs at 85 psi, a fact corroborated by the TRA year book, and that each tire would have 1,285 lbs of reserve load (nearly 14%). For these reasons, NHTSA believes that the subject tires have sufficient capacity for the expected loads during usage on the M911 HET military vehicles. Based on the restrictions within the military manual, the culture of the military to comply with such documentation, and the high level of maintenance that military vehicles receive, NHTSA further believes that these tires will not be used in an overloaded configuration. Therefore, the noncompliance is inconsequential to vehicle safety in this instance.

NHTSA's Decision: In consideration of the foregoing, NHTSA finds that BATO has met its burden of persuasion that in these specific vehicle applications, the FMVSS No. 119 noncompliance is inconsequential to motor vehicle safety. Accordingly, BATO's petition is hereby granted and BATO is exempted from the obligation of providing notification of, and remedy for, the noncompliance.

Authority: 49 U.S.C. 30118, 30120: delegations of authority at 49 CFR 1.95 and 501.8.

Jeffrey M. Giuseppe,
Director, Office of Vehicle Safety Compliance.

[FR Doc. 2017-06952 Filed 4-6-17; 8:45 am]

BILLING CODE 4910-59-P